DEPARTMENT OF ENERGY

Federal Energy Regulatory Commission

[Docket No. IC25-8-000]

Commission Information Collection Activities (FERC-725D); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, FERC-725D (Facilities Design, Connections and Maintenance Reliability Standards). This notice for the transfer of FAC-003-5 (725M) and FAC-008-5 (725A) to 725D.

DATES: Comments on the collection of information are due March 28, 2025.

ADDRESSES: You may submit comments (identified by Docket No. IC25-8-000) by one of the following methods:

Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery services: Federal Energy Regulatory Commission, Secretary of the Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams may be reached by email at DataClearance@FERC.gov, telephone at (202) 502-6468.

SUPPLEMENTARY INFORMATION:

Title: FERC-725D, Facilities Design, Connections and Maintenance Reliability Standards.

OMB Control No.: 1902-0247.

Type of Request: Three-year approval of the FERC-725D information collection requirements, with changes to the reporting or recordkeeping requirements. (There are adjustments to the estimates to update the totals to add in the FAC-003-5 and FAC-008-5).

Abstract: On August 8, 2005, The Electricity Modernization Act of 2005, which is Title XII of the Energy Policy Act of 2005 (EPAct 2005), was enacted into law. EPAct 2005 added a new section 215 to the Federal Power Act (FPA), which requires a Commission-certified Electric Reliability Organization (ERO) to develop mandatory and enforceable Reliability Standards, subject to Commission review and approval. Once approved, the Reliability Standards may be enforced by the ERO, subject to Commission oversight, or by the Commission independently. In 2006, the Commission certified NERC (now called the North American Electric Reliability Corporation) as the ERO pursuant to section 215 of the FPA. On March 16, 2007 (pursuant to section 215(d) of the FPA), the Commission issued Order No. 693, approving 83 of the 107 initial Reliability Standards filed by NERC. In the intervening years, numerous changes have been made to update, eliminate, or establish various Reliability Standards.

The information collected by FERC-725D is required to implement the statutory provisions of section 215 of the Federal Power Act (FPA) (16 U.S.C. 824c). Pursuant to section 215 of the Federal Power Act (FPA),¹ in Order 836,² the Commission approved the following standards: FAC-003-5 is set out to maintain a reliable electric transmission system by using a defense-in-depth strategy to manage vegetation located on transmission rights of way (ROW) and minimize encroachments from vegetation located adjacent to the ROW, thus preventing the risk of those vegetation-related outages that could lead to Cascading. FAC-003-5 is applicable to TOs and GOs and NERC has incorporated Applicability Sections 4.2.2 and 4.3.1.2 of FAC-003-5 to replace references to “elements of an IROL under NERC Standard FAC-014 by the Planning Coordinator” with references to facilities:

¹ 16 U.S.C. 824(o).

² Order 836 in Docket No. RM16-13 was issued on 9/20/2017 and is posted at https://elibrary.ferc.gov/idmws/common/opennat.asp?fileID=14684897.

“Identified by the Planning Coordinator or Transmission Planner, per its Planning Assessment of the Near-Term Transmission Planning Horizon as a Facility that if lost or degraded are expected to result in instances of instability, Cascading, or uncontrolled separation that adversely impacts the reliability of the Bulk Electric System for a planning event.”

Reliability Standard FAC-008-5 ensures that Facility Ratings used in the reliable planning and operation of the Bulk Electric System (BES) are determined based on technically sound principles. A Facility Rating is essential for the determination of System Operating Limits.

Type of Respondents: TO& GO.³

³ TO = Transmission Owner; GO = Generator Owner.

Estimate of Annual Burden ⁴ and Cost: The Commission estimates an increase (adjustment) in the annual public reporting burden for the FERC-725D. In an effort to target similar NERC Reliability Standards by family the following manhours associated with two FAC (Facilities) Reliability Standards (FAC-008-5 and FAC-003-5) is being transferred from 725A (1902-0244) to the 725D (1902-0247), where other FAC standards are collected, as shown below in the table:

⁴ Burden is defined as the total time, effort, or financial resources expended by persons to generate, maintain, retain, or disclose or provide information to or for a Federal agency. For further explanation of what is included in the information collection burden, refer to 5 Code of Federal Regulations 1320.3.

| Number of entity ⁵ | Number of annual responses per entity | Total number of responses | Average number of burden hours per response ⁶ | Total burden hours
| (1) | (2) | (1) * (2) = (3) | (4) | (3) * (4) = (5)
Transferred from FERC-725M to FERC-725D
Annual Review and Record Retention | 191(TO) 731(GO) | 1 1 | 191 731 | 1.91 hrs.; $134.98/hrs .48 hrs.; $33.92 hrs | 364.81 hrs.; $25,781.12. 349.41 hrs.; $24,728.14.
Carryover from RD22-2 Exp. 2026 | 1,393 | 4 | 5,572 | 8 hrs.; $565.36 | 44,576 hrs.; $3,150,185.92.
Total for FAC-003-5 |  |  | 6,494 |  | 45,290.22 hrs.; $3,200,659.85.

| Number of entity ⁷ | Number of annual responses per entity | Total number of responses | Average number of burden hours per response ⁸ | Total burden hours
| (1) | (2) | (1) * (2) = (3) | (4) | (3) * (4) = (5)
Transferred from FERC-725A to FERC-725D
Annual review and record retention | 324 (TO) 1210 (GO) | 1 1 | 324 1,210 | 200 hrs.; $70.67/hrs 80 hrs.; $70.67/hrs | 64,800 hrs.; $4,579,416. 96,800 hrs.; $6,840,856.
Total for FAC-008-5 |  |  | 1,534 |  | 161,600 hrs.; $11,420,272.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ These values were derived from the NERC Compliance data of April 16, 2024, using only unique United States registered entities.

⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

⁷ These values were derived from the NERC Compliance data of April 16, 2024, using only unique United States registered entities.

⁸ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Dated: January 17, 2025.
Debbie-Anne A. Reese,
Secretary.

[FR Doc. 2025-01736 Filed 1-24-25; 8:45 am]

BILLING CODE 6717-01-P